DEPARTMENT OF ENERGY

Federal Energy Regulatory Commission

Combined Notice of Filings #1

Take notice that the Commission received the following electric corporate filings:

Docket Numbers: EC22-49-000.

Applicants: Pixelle Specialty Solutions Holding LLC.

Description: Joint Application for Authorization Under Section 203 of the Federal Power Act of Pixelle Specialty Solutions Holding LLC, et al.

Filed Date: 4/1/22.

Accession Number: 20220401-5590.

Comment Date: 5 p.m. ET 4/22/22.

Take notice that the Commission received the following electric rate filings:

Docket Numbers: ER20-2429-003.

Applicants: ISO New England Inc., Central Maine Power Company.

Description: Central Maine Power Company submits Compliance Filing as directed in December 22, 2021 Commission Order.

Filed Date: 3/31/22.

Accession Number: 20220331-5630.

Comment Date: 5 p.m. ET 4/21/22.

Docket Numbers: ER21-2179-002.

Applicants: Oliver Wind I, LLC.

Description: Compliance filing: Compliance Filing Under Docket ER21-2179 to be effective 9/1/2021.

Filed Date: 4/4/22.

Accession Number: 20220404-5143.

Comment Date: 5 p.m. ET 4/25/22.

Docket Numbers: ER21-2401-002.

Applicants: Oliver Wind Energy Center II, LLC.

Description: Compliance filing: Compliance Filing Under ER21-2401 to be effective 9/1/2021.

Filed Date: 4/4/22.

Accession Number: 20220404-5144.

Comment Date: 5 p.m. ET 4/25/22.

Docket Numbers: ER22-1003-001.

Applicants: Southwestern Public Service Company.

Description: Tariff Amendment: LPL Second Amended PR Agreement Deferral Filing to be effective 12/31/9998.

Filed Date: 4/4/22.

Accession Number: 20220404-5069.

Comment Date: 5 p.m. ET 4/25/22.

Docket Numbers: ER22-1483-001.

Applicants: Saavi Energy Solutions, LLC.

Description: Notice of Change in Status of Saavi Energy Solutions, LLC.

Filed Date: 3/31/22.

Accession Number: 20220331-5629.

Comment Date: 5 p.m. ET 4/21/22.

Docket Numbers: ER22-1551-000.

Applicants: Windstar Energy, LLC.

Description: Baseline eTariff Filing: Notice of Succession, Revision to MBR Tariff & Request for Admin Cancellation to be effective 4/2/2022.

Filed Date: 4/1/22.

Accession Number: 20220401-5380.

Comment Date: 5 p.m. ET 4/22/22.

Docket Numbers: ER22-1552-000.

Applicants: Alta Wind VIII, LLC.

Description: Baseline eTariff Filing: Notice of Succession, Revision to MBR Tariff & Request for Admin Cancellation to be effective 4/2/2022.

Filed Date: 4/1/22.

Accession Number: 20220401-5381.

Comment Date: 5 p.m. ET 4/22/22.

Docket Numbers: ER22-1553-000.

Applicants: Granite Reliable Power, LLC.

Description: Baseline eTariff Filing: Notice of Succession, Revision to MBR Tariff & Request for Admin Cancellation to be effective 4/2/2022.

Filed Date: 4/1/22.

Accession Number: 20220401-5382.

Comment Date: 5 p.m. ET 4/22/22.

Docket Numbers: ER22-1554-000.

Applicants: Ford County Wind Farm LLC.

Description: Baseline eTariff Filing: Reactive Power Tariff Application to be effective 6/1/2022.

Filed Date: 4/4/22.

Accession Number: 20220404-5000.

Comment Date: 5 p.m. ET 4/25/22.

Docket Numbers: ER22-1555-000.

Applicants: Mississippi Power Company.

Description: Mississippi Power Company submits Waiver Request of Commission's filing requirement 18 CFR 35.13(d)(3)(i), Requesting the Commission Waive Standard Filing Requirements and Accept MRA Period I.

Filed Date: 3/30/22.

Accession Number: 20220330-5277.

Comment Date: 5 p.m. ET 4/20/22.

Docket Numbers: ER22-1556-000.

Applicants: PJM Interconnection, L.L.C.

Description: § 205(d) Rate Filing: Original NSA, Service Agreement No. 6392; Queue No. AD1-082 to be effective 3/7/2022.

Filed Date: 4/4/22.

Accession Number: 20220404-5070.

Comment Date: 5 p.m. ET 4/25/22.

Docket Numbers: ER22-1557-000.

Applicants: Southwest Power Pool, Inc.

Description: § 205(d) Rate Filing: Tariff Clean-Up Filing Effective 20220518 to be effective 5/18/2022.

Filed Date: 4/4/22.

Accession Number: 20220404-5098.

Comment Date: 5 p.m. ET 4/25/22.

Docket Numbers: ER22-1558-000.

Applicants: Public Service Company of New Mexico.

Description: Annual Filing of Post-Employment Benefits Other than Pensions for 2022 of Public Service Company of New Mexico.

Filed Date: 4/1/22.

Accession Number: 20220401-5587.

Comment Date: 5 p.m. ET 4/22/22.

Docket Numbers: ER22-1559-000.

Applicants: AEP Texas Inc.

Description: § 205(d) Rate Filing: AEPTX-Monte Alto Windpower 4th A&R GIA to be effective 3/22/2022.

Filed Date: 4/4/22.

Accession Number: 20220404-5150.

Comment Date: 5 p.m. ET 4/25/22.

Docket Numbers: ER22-1560-000.

Applicants: Brookfield Energy Marketing Inc.

Description: § 205(d) Rate Filing: Request for Category 1 Seller Status in the SW Region to be effective 4/5/2022.

Filed Date: 4/4/22.

Accession Number: 20220404-5165.

Comment Date: 5 p.m. ET 4/25/22.

Docket Numbers: ER22-1561-000.

Applicants: Brookfield Energy Marketing LP.

Description: § 205(d) Rate Filing: Request for Category 1 Seller Status in the SW Region to be effective 4/5/2022.

Filed Date: 4/4/22.

Accession Number: 20220404-5170.

Comment Date: 5 p.m. ET 4/25/22.

Docket Numbers: ER22-1562-000.

Applicants: Brookfield Renewable Energy Marketing US LLC.

Description: § 205(d) Rate Filing: Request for Category 1 Seller Status in the SW Region to be effective 4/5/2022.

Filed Date: 4/4/22.

Accession Number: 20220404-5173.

Comment Date: 5 p.m. ET 4/25/22.

Docket Numbers: ER22-1563-000.

Applicants: Brookfield Renewable Trading and Marketing LP.

Description: § 205(d) Rate Filing: Request for Category 1 Seller Status in the SW Region to be effective 4/5/2022.

Filed Date: 4/4/22.

Accession Number: 20220404-5179.

Comment Date: 5 p.m. ET 4/25/22.

Docket Numbers: ER22-1564-000.

Applicants: Imperial Valley Solar 1, LLC.

Description: § 205(d) Rate Filing: Request for Category 1 Seller Status in the SW Region to be effective 4/5/2022.

Filed Date: 4/4/22.

Accession Number: 20220404-5183.

Comment Date: 5 p.m. ET 4/25/22.

Docket Numbers: ER22-1565-000.

Applicants: Mesa Wind Power LLC.

Description: § 205(d) Rate Filing: Request for Category 1 Seller Status in the SW Region to be effective 4/5/2022.

Filed Date: 4/4/22.

Accession Number: 20220404-5186.

Comment Date: 5 p.m. ET 4/25/22.

Docket Numbers: ER22-1566-000.

Applicants: Guernsey Power Station LLC.

Description: Baseline eTariff Filing: Guernsey Power MBR to be effective 5/16/2022.

Filed Date: 4/4/22.

Accession Number: 20220404-5187.

Comment Date: 5 p.m. ET 4/25/22.

Docket Numbers: ER22-1567-000.

Applicants: Regulus Solar, LLC.

Description: § 205(d) Rate Filing: Request for Category 1 Seller Status in the SW Region to be effective 4/5/2022.

Filed Date: 4/4/22.

Accession Number: 20220404-5189.

Comment Date: 5 p.m. ET 4/25/22.

Docket Numbers: ER22-1568-000.

Applicants: Virginia Electric and Power Company, PJM Interconnection, L.L.C.

Description: § 205(d) Rate Filing: Virginia Electric and Power Company submits tariff filing per 35.13(a)(2)(iii: Dominion submits revisions to OATT, Attachment H-16AA to be effective 7/1/2022.

Filed Date: 4/4/22.

Accession Number: 20220404-5192.

Comment Date: 5 p.m. ET 4/25/22.

Docket Numbers: ER22-1569-000.

Applicants: Southwest Power Pool, Inc.

Description: § 205(d) Rate Filing: 3927 Diversion Wind Energy GIA to be effective 3/9/2022.

Filed Date: 4/4/22.

Accession Number: 20220404-5195.

Comment Date: 5 p.m. ET 4/25/22.

Docket Numbers: ER22-1570-000.

Applicants: Parkway Generation Operating LLC.

Description: Tariff Amendment: Notice of Cancellation of Rate Schedule and Request for Waivers to be effective 6/1/2022.

Filed Date: 4/4/22.

Accession Number: 20220404-5202.

Comment Date: 5 p.m. ET 4/25/22.

Docket Numbers: ER22-1571-000.

Applicants: NextEra Energy Transmission New York, Inc., New York Independent System Operator, Inc.

Description: § 205(d) Rate Filing: NextEra Energy Transmission New York, Inc. submits tariff filing per 35.13(a)(2)(iii: 205: NextEra formula rate filing of new depreciation rates to be effective 6/1/2022.

Filed Date: 4/4/22.

Accession Number: 20220404-5204.

Comment Date: 5 p.m. ET 4/25/22.

Docket Numbers: ER22-1572-000.

Applicants: Michigan Electric Transmission Company, LLC.

Description: MISO Schedule 50 Cost Recovery Filing of Michigan Electric Transmission Company, LLC.

Filed Date: 4/1/22.

Accession Number: 20220401-5594.

Comment Date: 5 p.m. ET 4/22/22.

Docket Numbers: ER22-1573-000.

Applicants: Michigan Electric Transmission Company, LLC.

Description: MISO Schedule 50 Cost Recovery Filing of Michigan Electric Transmission Company, LLC.

Filed Date: 4/1/22.

Accession Number: 20220401-5595.

Comment Date: 5 p.m. ET 4/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2022.
Debbie-Anne A. Reese,
Deputy Secretary.

[FR Doc. 2022-07567 Filed 4-7-22; 8:45 am]

BILLING CODE 6717-01-P